DEPARTMENT OF TRANSPORTATION

Federal Aviation Administration

Public Notice for Waiver of Aeronautical Land-Use Assurance; Rickenbacker International Airport, Columbus, OH

AGENCY: Federal Aviation Administration, DOT.

ACTION: Notice of release of waiver with respect to land.

SUMMARY: The Federal Aviation Administration (FAA) is considering a proposal to change a portion of the airport from aeronautical use to non-aeronautical use and to authorize the release of 13.105 acres of airport property for the proposed development of bulk warehouse/distribution facilities as a component of the Rickenbacker Global Logistics Park. The land was acquired by the Rickenbacker Port Authority through two Quitclaim Deeds dated March 30, 1984 from the Administrator of General Services for the United States of America and May 11, 1999 from the United States of America, acting by and through the Secretary of the Air Force. The property is no longer needed for aeronautical use. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 27, 2010.

FOR FURTHER INFORMATION CONTACT: Diane Morse, Program Manager, Detroit Airports District Office, 11677 South Wayne Road, Suite 107, Romulus, Michigan 48174. Telephone Number: (734)-229-2929/FAX Number: (734)-229-2950. Documents reflecting this FAA action may be reviewed at this same location or at Rickenbacker International Airport, Columbus, Ohio.

SUPPLEMENTARY INFORMATION: Following is a legal description of the property situated in the State of Ohio, County of Pickaway, Townships of Harrison and Madison, lying in Section 18, Township 10, Range 21, Congress Lands, being part of the remainder of the original 2995.065 acre tract conveyed as Tract 1 to Columbus Municipal Airport Authority by deed of record in Official Record 514, Page 2561, (all references are to the records of the Recorder's Office, Pickaway County, Ohio) and being more particularly described as follows:

Legal Description of Property

Beginning at an angle point in the southerly line said 2995.065 acre (Tract 1) at the northwesterly corner of a 201.7757 acre tract conveyed to The Landings at Rickenbacker, LLC;

Thence the following six (6) courses and distances on, over and across the said 2995.065 acre (Tract 1):

North 39°42′45″ West, a distance of 666.60 feet, to a point;

North 53°46′55″ West, a distance of 821.06 feet, to a point;

North 86°24′00″ West, a distance of 151.16 feet, to a point;

North 03°24′05″ East, a distance of 607.19 feet, to a point;

South 44°30′28″ East, a distance of 2298.53 feet, to a point on the northerly line of said 201.7757 acre tract;

North 86°24′01″ West, a distance of 408.93 feet, along said northerly line to the Point of Beginning, containing 13.105 acres, more or less, in Pickaway County.

The bearings in the above description are based on the bearing of North 86°24′01″ West, for the southerly line of the 2995.065 Acre (Tract 1) conveyed to Columbus Regional Airport Authority.

This description was prepared from record information from Recorder's Office, Franklin and Pickaway Countries and is not for the use of the transfer of real property.

Stephanie R. Swann,
Acting Manager, Detroit Airports District Office FAA, Great Lakes Region.

[FR Doc. 2010-21210 Filed 8-26-10; 8:45 am]

BILLING CODE 4910-13-P